NATIONAL CREDIT UNION ADMINISTRATION

Privacy Act of 1974: Systems of Records

AGENCY: National Credit Union Administration (NCUA).

ACTION: Notice of a new system of records.

SUMMARY: Pursuant to the Privacy Act of 1974, the National Credit Union Administration (NCUA) gives notice of a new Privacy Act system of records. The new system is NCUA-27, NCUA General Support System Records. This system consists of information collected to provide authorized individuals with access to NCUA information technology resources.

DATES: Submit comments on or before May 15, 2023. This system will be effective immediately, and routine uses will be effective on May 15, 2023.

ADDRESSES: You may submit comments by any of the following methods, but please send comments by one method only:

• Federal eRulemaking Portal: http://www.regulations.gov. Follow the instructions for submitting comments.

• NCUA website: http://www.ncua.gov/RegulationsOpinionsLaws/proposed_regs/proposed_regs.html. Follow the instructions for submitting comments.

• Fax: (703) 518-6319. Use the subject line described above for email.

• Mail: Address to Melane Conyers-Ausbrooks, Secretary of the Board, National Credit Union Administration, 1775 Duke Street, Alexandria, Virginia 22314-3428.

• Hand Delivery/Courier: Same as mail address.

FOR FURTHER INFORMATION CONTACT: Jennifer Chemel, Attorney-Advisor, Office of General Counsel, the National Credit Union Administration, 1775 Duke Street, Alexandria, Virginia 22314.

SUPPLEMENTARY INFORMATION: This notice informs the public of the NCUA's proposal to establish and maintain a new system of records in accordance with the Privacy Act of 1974. The information collected in the NCUA-27 system of records consists of information collected for the purpose of providing authorized individuals with access to NCUA information technology resources.

The format of NCUA-27 aligns with the guidance set forth in Office of Management and Budget Circular A-108.

By the National Credit Union Administration Board on April 10, 2023.
Melane Conyers-Ausbrooks,
Secretary of the Board.

SYSTEM NAME AND NUMBER:

NCUA-27, NCUA General Support System Records.

SECURITY CLASSIFICATION:

Unclassified.

SYSTEM LOCATION:

National Credit Union Administration, 1775 Duke Street, Alexandria, VA 22314-3428.

SYSTEM MANAGER(S):

Chief Information Officer, National Credit Union Administration, 1775 Duke Street, Alexandria, Virginia 22314-3428.

AUTHORITY FOR MAINTENANCE OF THE SYSTEM:

12 U.S.C. 1751 et seq. and 40 U.S.C. 11331.

PURPOSE(S) OF THE SYSTEM:

The information in the system is being collected to enable the NCUA to provide authorized individuals access to NCUA information technology resources. The system enables the NCUA to maintain account information required for approved access to information technology, lists of individuals seeking or receiving access to NCUA information technology or equipment, and lists of individuals who are appropriate organizational points of contact. The information will also be used for administrative purposes to ensure quality control, performance, and improving management processes.

CATEGORIES OF INDIVIDUALS COVERED BY THE SYSTEM:

Categories of individuals covered by this system include all persons who are authorized to access NCUA information technology resources, including: (1) Employees, contractors, and any lawfully designated representatives of federal, state, territorial, tribal, or local government agencies or entities, in furtherance of the NCUA's mission; (2) individuals who have business with the NCUA and who have provided personal information in order to facilitate access to NCUA information technology resources; and (3) individuals who are points of contact provided for government business, operations, or programs.

CATEGORIES OF RECORDS IN THE SYSTEM:

Records in this system may contain data relating to individuals, including but not limited to: name; telephone numbers, including business, cellular, and home numbers; level of access; home or other provided address for the receipt of issued IT equipment or resources; email addresses of senders and recipients; records of access to NCUA computers and networks including equipment issued, user ID and passwords, date(s) and time(s) of access, IP address of access, logs of internet activity and records on the authentication of the access request; records of identity management related to individual user's request including universal resource locator of individual's chosen identity assurance certificate provider and response from certificate provider of positive or negative authentication; and positions or titles of contacts, their business or organizational affiliations, and other contact information provided to the NCUA that is derived from other sources to facilitate authorized access to NCUA Information Technology resources. The information in this system includes information relating to system access and does not include the data held within the systems or information technology resources to which access or interaction is sought.

RECORD SOURCE CATEGORIES:

Information in this system is obtained from individuals and entities associated with or granted access to NCUA information technology resources.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the NCUA as a routine use pursuant to 5 U.S.C. 552a(b)(3) as follows:

1. If a record in a system of records indicates a violation or potential violation of civil or criminal law or a regulation, and whether arising by general statute or particular program statute, or by regulation, rule, or order, the relevant records in the system or records may be disclosed as a routine use to the appropriate agency, whether federal, state, local, or foreign, charged with the responsibility of investigating or prosecuting such violation or charged with enforcing or implementing the statute, rule, regulation, or order issued pursuant thereto.

2. A record from a system of records may be disclosed as a routine use to a member of Congress or to a congressional staff member in response to an inquiry from the congressional office made at the request of the individual about whom the record is maintained;

3. Records in a system of records may be disclosed as a routine use to the Department of Justice, when: (a) NCUA, or any of its components or employees acting in their official capacities, is a party to litigation; or (b) Any employee of NCUA in his or her individual capacity is a party to litigation and where the Department of Justice has agreed to represent the employee; or (c) The United States is a party in litigation, where NCUA determines that litigation is likely to affect the agency or any of its components, is a party to litigation or has an interest in such litigation, and NCUA determines that use of such records is relevant and necessary to the litigation, provided, however, that in each case, NCUA determines that disclosure of the records to the Department of Justice is a use of the information contained in the records that is compatible with the purpose for which the records were collected.

4. Records in a system of records may be disclosed as a routine use in a proceeding before a court or adjudicative body before which NCUA is authorized to appear (a) when NCUA or any of its components or employees are acting in their official capacities; (b) where NCUA or any employee of NCUA in his or her individual capacity has agreed to represent the employee; or (c) where NCUA determines that litigation is likely to affect the agency or any of its components, is a party to litigation or has an interest in such litigation, and NCUA determines that use of such records is relevant and necessary to the litigation, provided, however, NCUA determines that disclosure of the records is compatible with the purpose for which the records were collected.

5. A record from a system of records may be disclosed to contractors, experts, consultants, and the agents thereof, and others performing or working on a contract, service, cooperative agreement, or other assignment for NCUA when necessary to accomplish an agency function. Individuals provided information under this routine use are subject to the same Privacy Act requirements and limitations on disclosure as are applicable to NCUA employees.

6. Records may be disclosed to the Department of Homeland Security (DHS) if captured in an intrusion detection system used by NCUA and DHS pursuant to a DHS cybersecurity program that monitors internet traffic to and from federal government computer networks to prevent cybersecurity incidents;

7. A record from a system of records may be disclosed to appropriate agencies, entities, and persons when (1) NCUA suspects or has confirmed that the security or confidentiality of information in the system of records has been compromised; (2) NCUA has determined that as a result of the suspected or confirmed compromise there is a risk of harm to economic or property interests, identity theft or fraud, or harm to the security or integrity of this system or other systems or programs (whether maintained by NCUA or another agency or entity) that rely upon the compromised information; and (3) the disclosure made to such agencies, entities, and persons is reasonably necessary to assist in connection with NCUA's efforts to respond to the suspected or confirmed compromise and prevent, minimize, or remedy such harm.

8. To another Federal agency or Federal entity, when the NCUA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

Electronic records and backups are stored on secure servers, approved by NCUA's Office of the Chief Information Officer (OCIO), and accessed only by authorized personnel.

POLICIES AND PRACTICES FOR RETRIEVAL OF RECORDS:

Records are retrievable by a variety of fields including the individual's name or username.

POLICIES AND PRACTICES FOR RETENTION AND DISPOSAL OF RECORDS:

Records are maintained and disposed in accordance with the General Records Retention Schedules issued by the National Archives and Records Administration (NARA).

ADMINISTRATIVE, TECHNICAL AND PHYSICAL SAFEGUARDS:

NCUA has implemented the appropriate administrative, technical, and physical controls in accordance with the Federal Information Security Modernization Act of 2014, Public Law 113-283, S. 2521, and NCUA's information security policies to protect the confidentiality, integrity, and availability of the information system and the information contained therein. Access is limited only to individuals authorized through NIST-compliant Identity, Credential, and Access Management policies and procedures. The records are maintained behind a layered defensive posture consistent with all applicable federal laws and regulations, including Office of Management and Budget Circular A-130 and NIST Special Publication 800-37.

RECORD ACCESS PROCEDURES:

Individuals wishing access to their records should submit a written request to the Senior Agency Official for Privacy, NCUA, 1775 Duke Street, Alexandria, VA 22314, and provide the following information:

1. Full name.

2. Any available information regarding the type of record involved.

3. The address to which the record information should be sent.

4. You must sign your request.

Attorneys or other persons acting on behalf of an individual must provide written authorization from that individual for the representative to act on their behalf. Individuals requesting access must also comply with NCUA's Privacy Act regulations regarding verification of identity and access to records (12 CFR 792.55).

CONTESTING RECORD PROCEDURES:

Individuals wishing to request an amendment to their records should submit a written request to the Senior Agency Official for Privacy, NCUA, 1775 Duke Street, Alexandria, VA 22314, and provide the following information:

1. Full name.

2. Any available information regarding the type of record involved.

3. A statement specifying the changes to be made in the records and the justification therefore.

4. The address to which the response should be sent.

5. You must sign your request.

Attorneys or other persons acting on behalf of an individual must provide written authorization from that individual for the representative to act on their behalf.

NOTIFICATION PROCEDURES:

Individuals wishing to learn whether this system of records contains information about them should submit a written request to the Senior Agency Official for Privacy, NCUA, 1775 Duke Street, Alexandria, VA 22314, and provide the following information:

1. Full name.

2. Any available information regarding the type of record involved.

3. The address to which the record information should be sent.

4. You must sign your request.

Attorneys or other persons acting on behalf of an individual must provide written authorization from that individual for the representative to act on their behalf. Individuals requesting access must also comply with NCUA's Privacy Act regulations regarding verification of identity and access to records (12 CFR 792.55).

EXEMPTIONS PROMULGATED FOR THE SYSTEM:

None.

HISTORY:

This is a new system.

[FR Doc. 2023-07847 Filed 4-12-23; 8:45 am]

BILLING CODE 7535-01-P